DEPARTMENT OF THE INTERIOR

National Park Service

[NPS-WASO-NAGPRA-NPS0039557; PPWOCRADN0-PCU00RP14.R50000]

Notice of Inventory Completion: U.S. Department of the Interior, Bureau of Land Management, Arizona State Office, Phoenix, AZ

AGENCY: National Park Service, Interior.

ACTION: Notice.

SUMMARY: In accordance with the Native American Graves Protection and Repatriation Act (NAGPRA), the U.S. Department of the Interior, Bureau of Land Management, Arizona State Office has completed an inventory of human remains and associated funerary objects and has determined that there is a cultural affiliation between the human remains and associated funerary objects and Indian Tribes or Native Hawaiian organizations in this notice.

DATES: Repatriation of the human remains and associated funerary objects in this notice may occur on or after April 18, 2025.

ADDRESSES: Raymond Suazo, State Director, Arizona State Office, Bureau of Land Management, One North Central Avenue, Suite 800, Phoenix, AZ 85004-4427, telephone (602) 417-9500, email rmsuazo@blm.gov.

SUPPLEMENTARY INFORMATION: This notice is published as part of the National Park Service's administrative responsibilities under NAGPRA. The determinations in this notice are the sole responsibility of the Bureau of Land Management, Arizona State Office, and additional information on the determinations in this notice, including the results of consultation, can be found in its inventory or related records. The National Park Service is not responsible for the determinations in this notice.

Abstract of Information Available

Human remains representing 11 individuals or more have been identified. The 235 associated funerary objects consist of pottery. These human remains and funerary objects were confiscated/surrendered to BLM Law Enforcement personnel in April of 2013 as part of an investigation of a report of looting of several sites in the areas of Globe and Young, Gila Country, Arizona. The individual suspected of removing the human remains was deceased at the time of the confiscation, but was known to have actively looted archaeological sites in the 1980s in the Globe area of Gila County, AZ.

An examination of the human remains conducted in 2015 found they were human and most likely prehistoric. Some aspects of the remains found evidence of pre-mortem alternations of the human remains that are consistent with those seen in Salado and Mogollon cultures. The pottery present, predominately obliterated corrugated sherd, is consistent with ceramics found in the Salado and Mogollon cultural areas and, in consultation, two culturally affiliated tribes identified the ceramics as funerary objects.

Cultural Affiliation

Based on the information available and the results of consultation, the cultural affiliation is reasonably identified by the geographical location, acquisition history, and consultations conducted with the Ak-Chin Indian Community, Hopi Tribe of Arizona, Salt River Pima-Maricopa Indian Community of the Salt River Reservation, Arizona, the Gila River Indian Community of the Gila River Indian Reservation, Arizona and the Tohono O'odham Nation of Arizona.

Determinations

The Bureau of Land Management, Arizona State Office, has determined that:

• The human remains described in this notice represent the physical remains of 11 individuals of Native American ancestry.

• The 235 objects described in this notice are reasonably believed to have been placed intentionally with or near individual human remains at the time of death or later as part of the death rite or ceremony.

• There is a connection between the human remains and associated funerary objects described in this notice and the Ak-Chin Indian Community; Gila River Indian Community of the Gila River Indian Reservation, Arizona; Hopi Tribe of Arizona; Salt River Pima-Maricopa Indian Community of the Salt River Reservation, Arizona; and the Tohono O'odham Nation of Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 18, 2025. If competing requests for repatriation are received, the Bureau of Land Management, Arizona State Office, must determine the most appropriate requestor prior to repatriation. Requests for joint repatriation of the human remains and associated funerary objects are considered a single request and not competing requests. The Bureau of Land Management, Arizona State Office, is responsible for sending a copy of this notice to the Indian Tribes and Native Hawaiian organizations identified in this notice.

Authority: Native American Graves Protection and Repatriation Act, 25 U.S.C. 3003, and the implementing regulations, 43 CFR 10.10.

Dated: February 19, 2025.
Melanie O'Brien,
Manager, National NAGPRA Program.

[FR Doc. 2025-04607 Filed 3-18-25; 8:45 am]

BILLING CODE 4312-52-P